DEPARTMENT OF HEALTH AND HUMAN SERVICES

Centers for Disease Control and Prevention

[Program Announcement 04057]

Grant for Injury Control Research Center; Notice of Availability of Funds-Amendment

A notice announcing the availability of fiscal year (FY) 2004 funds for a grant for an Injury Control Research Center (ICRC) was published in the Federal Register on November 26, 2003, Volume 68, Number 228, pages 66442-66447. The notice is amended as follows: On page 66447, Column 1, Section “VI. Award Administration Information,” on line 4 in the first paragraph after the “AR-25” requirement, delete “$250,000” and replace with “$500,000.”

Dated: December 19, 2003.
Edward Schultz,
Acting Director, Procurement and Grants Office, Centers for Disease Control and Prevention.

[FR Doc. 03-31838 Filed 12-29-03; 8:45 am]

BILLING CODE 4163-18-P